INTERNATIONAL TRADE COMMISSION

[Investigation No. 337-TA-449]

In the Matter of Certain Abrasive Products Made Using a Process for Making Powder Preforms, and Products Containing Same; Notice of Commission Decision Not To Review an Initial Determination Amending the Complaint and Notice of Investigation

AGENCY: U.S. International Trade Commission.

ACTION: Notice.

SUMMARY: Notice is hereby given that the U.S. International Trade Commission has determined not to review the presiding administrative law judge's (“ALJ's”) initial determination (“ID”) amending the complaint and notice of investigation in the above-captioned investigation to include allegations of infringement of additional claims of the patent in issue.

FOR FURTHER INFORMATION CONTACT: Donnette Rimmer, Esq., Office of the General Counsel, U.S. International Trade Commission, 500 E Street, SW., Washington, DC 20436, telephone (202) 205-0663. Hearing impaired persons are advised that information on this matter can be obtained by contacting the Commission's TDD terminal at (202) 205-1810. General information concerning the Commission may also be obtained by accessing the Commission's internet server (http://www.usitc.gov). The public record for this investigation may be viewed on the Commission's electronic docket (EDIS-ON-Line) at http://dockets.usitc.gov/eol/public.

SUPPLEMENTARY INFORMATION: The Commission instituted this investigation on February 6, 2001, based on a complaint filed on behalf of Minnesota Mining and Manufacturing Co. of St. Paul, Minnesota and Ultimate Abrasive systems, L.L.C. of Atlanta, Georgia. The complaint named two respondents, Kinik Company of Taipei, Taiwan and Kinik Corporation of Anaheim, California.

On June 8, 2001, complainants filed a motion pursuant to Commission rule 210.14 for an order amending the complaint and notice of investigation by including allegations of infringement of dependent claims 4, 5, and 8 of U.S. Letters Patent 5,620,489, in addition to independent claim 1 of that patent that is already in issue. Respondents opposed the motion and the Commission investigative attorney supported it. On June 19, 2001, the presiding ALJ issued an ID (Order No. 16) granting the motion. No party petitioned for review of the ID.

The authority for the Commission's action is contained in section 337 of the Tariff Act of 1930, as amended (19 U.S.C. 1337) and in section 210.42 of the Commission's rules of practice and procedure (19 CFR 210.42). Copies of the ALJ's ID and all other nonconfidential documents filed in connection with this investigation are or will be available for inspection during official business hours (8:45 a.m. to 5:15 p.m.) in the Office of the Secretary, U.S. International Trade Commission, 500 E Street, SW., DC 20436, telephone (202) 205-2000.

Issued: July 10, 2001.
By Order of the Commission.
Donna R. Koehnke,
Secretary.

[FR Doc. 01-17620 Filed 7-12-01; 8:45 am]

BILLING CODE 7020-02-P